DEPARTMENT OF HOUSING AND URBAN DEVELOPMENT

[Docket No. FR-7051-N-02]

60-Day Notice of Proposed Information Collection, Comment Request: HUD Standardized Grant Application Forms: Detailed Budget Form (HUD Form 424-CB) HUD Detailed Budget Worksheet (HUD Form 424-CBW), HUD Funding Matrix (HUD 424-M), Application for Federal Assistance (SF-424), Assurances and Certifications for Recipients and Applicants (HUD 424-B), Disclosure of Lobbying Activities (SF-LLL), Certification Regarding Lobbying Activities (Lobbying Form), HUD-2880 Applicant/Recipient Disclosure/Update Report, Project Abstract Form, and Budget Information for Non-Construction Programs (SF-424A), OMB Control No.: 2501-0017

AGENCY: Office of the Chief Financial Officer, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: October 7, 2022.

ADDRESSES: Interested persons are invited to submit comments regarding this proposal. Comments should refer to the proposal by name and/or OMB Control Number and should be sent to Colette Pollard, Reports Management Officer, QDAM, Department of Housing and Urban Development, 451 7th Street SW, Room 4176, Washington, DC 20410-5000; telephone 202-402-3400 (this is not a toll-free number) or email at Colette.Pollard@hud.gov for a copy of the proposed form. Persons with hearing or speech impairments may access this number through TTY by calling the toll-free Federal Relay Service at (800) 877-8339.

Electronic Submission of Comments. Interested persons may also submit comments electronically through the Federal eRulemaking Portal at www.regulations.gov. HUD strongly encourages commenters to submit comments electronically. Electronic submission of comments allows the commenter maximum time to prepare and submit a comment, ensures timely receipt by HUD, and enables HUD to make them immediately available to the public. Comments submitted electronically through the www.regulations.gov website can be viewed by other commenters and interested members of the public. Commenters should follow the instructions provided on that site to submit comments electronically.

Note: To receive consideration as public comments, comments must be submitted through one of the methods specified above. Again, all submissions must refer to the docket number and title of the notice.

FOR FURTHER INFORMATION CONTACT: Dorthera Yorkshire, Office of the Chief Financial Officer, Grants Management and Oversight Division, Department of Housing and Urban Development, 451 Seventh St. SW Room 10162, Washington, DC 20410 or by email Dorthera.Yorkshire@hud.gov or telephone 202-402-4336. This is not a toll-free number. Persons with hearing or speech impairments may access this number through TTY by calling the toll-free Federal Relay Service at (800) 877-8339. Copies of the proposed data collection form may be requested from Ms. Collette Pollard.

SUPPLEMENTARY INFORMATION: This notice informs the public that the Department is soliciting comments prior to submitting the proposed information collection to OMB for review, as required by the Paperwork Reduction Act of 1995 (44 U.S.C. Chapter 35, as amended). HUD is seeking approval from OMB for the information collection described in Section A.

A. Overview of Information Collection

Title of Proposal: HUD Standardized Grant Application Forms: Detailed Budget Form (HUD 424-CB) HUD Detailed Budget Worksheet (HUD 424-CBW), HUD Funding Matrix (HUD 424-M), Application for Federal Assistance (SF 424), Assurances and Certifications for Applicants and Recipients (HUD 424-B), Disclosure of Lobbying Activities (SF LLL), Certification Regarding Lobbying Activities (Lobbying Form), Applicant/Recipient Disclosure/Update Report (HUD 2880), Project Abstract Form, and Budget Information for Non-Construction Programs (SF 424-A).

Type of Request: Revision of a Currently Approved Collection.

OMB Control Number, if applicable: 2501-0017.

Additional OMB control numbers applicable to government wide standardized forms are also noted in this collection. As the burden is accounted for in those separate collections, it is not included in this calculation.

4040-0004 SF 424 Grants.gov form.

4040-0006 SF 424-A Grants.gov form.

4040-0019 Project Abstract Summary Grants.gov form.

4040-0013 SF LLL Grants.gov form.

4040-0013 Lobbying Form Grants.gov form.

Description of the need for the information and proposed use: Approval is sought for revision of the Information Collection Request of HUD standardized forms which are used by various HUD programs that use a competitive application process to award financial assistance. The HUD Common Budget Form—(HUD 424-CB), the Common Budget Form Worksheet (HUD 424-CBW), the Assurances and Certifications Form—(HUD 424-B), and the HUD Matrix (HUD-M) are used to offer standardized application forms. The Federal Financial Assistance Improvement Act of 1999 (Pub. L. 106-107, signed November 20, 1999) encourages standardization.

In addition, as noted under the Office of Management and Budget (OMB) Control Number heading, the collection references a number of government-wide forms, including forms from the Standard Form (SF) Family, which are used for all HUD applications and available on grants.gov. The burden associated with these government-wide forms are reflected in separate OMB-sponsored government-wide information collections and are not reflected in this collection.

Further, HUD combined into this collection form HUD 2880 Applicant/Recipient Disclosure/Update Report (formerly approved under OMB control number 2501-0032) to consolidate public input and burden into one OMB control number. The form HUD 2880 is also updated to reflect changes to the information respondents report in the Employee ID field under Part III of the form. For each person reported in Part III, HUD expects applicants to provide a unique ID that is not the person's social security number. Lastly, the updated form HUD 2880 includes updates to the certification language, which now reads as follows:

I/We, the undersigned, certify under penalty of perjury that the information provided above is true, correct, and accurate. Warning: If you knowingly make a false statement on this form, you may be subject to criminal and/or civil penalties under 18 U.S.C. 1001. In addition, any person who knowingly and materially violates any required disclosures of information, including intentional non-disclosure, is subject to civil money penalty not to exceed $10,000 for each violation.

All HUD-specific forms in this information collection have been modified to include updated Paperwork Reduction Act burden statements, in order to comply with 5 CFR 1320.8(b)(3). The burden statements now reads as follows:

The public reporting burden for this collection of information is estimated to average [X] hours per response, including the time for reviewing instructions, searching existing data sources, gathering, and maintaining the data needed, and completing and reviewing the collection of the requested information. Comments regarding the accuracy of this burden estimate and any suggestions for reducing this burden can be sent to the Reports Management Officer, QDAM, Department of Housing and Urban Development, 451 7th St SW, Room 4176, Washington, DC 20410-5000. Do not send completed forms to this address. This agency may not conduct or sponsor, and a person is not required to respond to, a collection of information unless the collection displays a valid OMB control number. The information you provide will enable HUD to carry out its responsibilities under this Act and ensure greater accountability and integrity in the provision of certain types of assistance administered by HUD. This information is required to obtain the benefit sought in the HUD program. Failure to provide any required information may delay the processing of your application and may result in sanctions and penalties including of the administrative and civil money penalties specified under 24 CFR 4.38. This information will not be held confidential and may be made available to the public in accordance with the Freedom of Information Act (5 U.S.C. 552).

Members of affected public: Applicants for HUD's competitively funded financial assistance programs.

Estimation of the total numbers of hours needed to prepare the information collection including number of respondents, frequency of response, and hours of response: The forms referenced in this Notice are used by entities when they apply for financial assistance for HUD's competitive programs. HUD receives roughly 14,375 applications on an annual basis, HUD expects 14,375 respondents who may complete the major forms. However, respondents have the option to complete one of several budget forms (SF 424-A, HUD 424-CB, HUD-424CBW, or HUD 424-M), depending on the requirements associated with the financial assistance program. HUD estimates an hourly rate of $65.15 per hour ¹ for individuals completing the form. The total estimated burden on respondents would thus reach $2,902,432.50 on an annual basis. This is shown in Estimated Burden on Respondents Table 1 below. The actual burden is assessed by each HUD program.

¹ Estimated cost for respondents is calculated from the March 2022 Department of Labor Bureau of Labor Statistics report on Employer Costs for Employee Compensation determined that the hourly rate of management, professional and related wages and salaries averaged $44.28 per hour plus $20.87 per hour for fringe benefits for a total $65.15 per hour.

Table 1—Estimated Burden on Respondents
Form | Number of respondents | Frequency | Hours per respondent | Total hours | Cost per hour | Total cost
SF 424 | 11,500 | 1.2 |  |  |  |
SF LLL | 11,375 | 1.2 |  |  |  |
Lobbying Form | 14,375 | 1.2 |  |  |  |
SF 424-A | 11,500 | 1.2 |  |  |  |
Project Abstract Summary | 14,375 | 1.2 |  |  |  |
HUD 424-B | 11,500 | 1.2 |  |  |  |
HUD 424-CB | 1,375 | 1.2 | 3 | 4,950 | 65.15 | $ 322,492.50
HUD 424-CBW | 1,375 | 1.2 | 3 | 4,950 | 65.15 | 322,492.50
HUD 424-M | 250 | 1.2 | 0.5 | 150 | 65.15 | 9,772.50
HUD 2880 | 14,375 | 1.2 | 2 | 34,500 | 65.15 | 2,247,675.00
Total | 14,375 |  | 8.5 | 44,550 |  | 2,902,432.50

Estimation of the Cost to the Federal government: The following table shows the estimated burden of Federal financial assistance review. HUD estimates the cost of the maximum burden on HUD staff would total at most $3,989,793.60 for the HUD-specific forms, and $12,749,436.60 for all forms in Table 1. These estimates assume that each form would be reviewed for one hour by a GS-13 step 5 performing a review, and then by a GS-14 and a GS-15 who will look at summary results on an annual basis.²

² Federal staff time is estimated for a GS-13 step 5 hourly rate at $58.01 per hour (from the Office of Personnel Management and the table with Washington-Baltimore-Arlington locality pay), plus 16% fringe benefit for a total of $67.29 per hour, as well as 15 minutes each for a GS-14 step 5 at $72.19/hour and a GS-15 step 5 at $84.91/hour, based on similar calculations bringing the blended total to $106.57/hour for each form submitted.

B. Solicitation of Public Comment

This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

C. Authority

The Paperwork Reduction Act of 1995, 44 U.S.C. chapter 35, as amended.

George Tomchick,
Deputy Chief Financial Officer, Office of the Chief Financial Officer.

[FR Doc. 2022-16883 Filed 8-5-22; 8:45 am]

BILLING CODE 4210-67-P